ENVIRONMENTAL PROTECTION AGENCY

[FRL-9948-36-Region 9]

Casmalia Resources Superfund Site; Notice of Proposed CERCLA Administrative De Minimis Settlement

AGENCY: Environmental Protection Agency (EPA).

ACTION: Notice; request for public comment.

SUMMARY: In accordance with section 122(i) of the Comprehensive Environmental Response, Compensation, and Liability Act, as amended (CERCLA) and section 7003 of the Resource Conservation and Recovery Act (RCRA), the Environmental Protection Agency (EPA) is hereby providing notice of a proposed administrative de minimis settlement concerning the Casmalia Resources Superfund Site in Santa Barbara County, California (the Casmalia Resources Site). Section 122(g) of CERCLA provides EPA with the authority to enter into administrative de minimis settlements. This settlement is intended to resolve the liabilities of the 171 settling parties identified below for the Casmalia Resources Site under sections 106 and 107 of CERCLA and section 7003 of RCRA. These parties have also elected to resolve their liability for response costs and potential natural resource damage claims by the United States Fish and Wildlife Service (USFWS) and the National Oceanic and Atmospheric Administration (NOAA). These 171 parties sent 27,811,584 lbs. of waste to the Casmalia Resources Site, which represents 0.005 (0.5%) of the total Site waste of 5.6 billion pounds. This settlement requires these parties to pay over $1.7 million to EPA.

DATES: EPA will receive written comments relating to the settlement until July 27, 2016. EPA will consider all comments it receives during this period, and may modify or withdraw consent to the settlement if any comments disclose facts or considerations indicating that the settlement is inappropriate, improper, or inadequate.

Public Meeting: In accordance with section 7003(d) of RCRA, 42 U.S.C. 6973(d), commenters may request an opportunity for a public meeting in the affected area. The deadline for requesting a public meeting is July 11, 2016. Requests for a public meeting may be made by contacting Russell Mechem by email at Mechem.russell@epa.gov. If a public meeting is requested, information about the date and time of the meeting will be published in the local newspaper, The Santa Maria Times, and will be sent to persons on the EPA's Casmalia Resources Site mailing list. To be added to the mailing list, please contact: Alejandro Diaz at (415) 972-3242 or by email at diaz.alejandro@epa.gov.

ADDRESSES: Written comments should be addressed to Casmalia Case Team, U.S. Environmental Protection Agency Region IX, 75 Hawthorne Street (mail code SFD-7-1), San Francisco, California 94105-3901, or may be sent by email to Mechem.russell@epa.gov.

FOR FURTHER INFORMATION CONTACT: A copy of the settlement document and additional information about the Casmalia Resources Site and the proposed settlement may be obtained on the EPA-maintained Casmalia Resources Site Web site at: http://www.epa.gov/region09/casmalia or by calling Russell Mechem at (415) 972-3192.

SUPPLEMENTARY INFORMATION: Settling Parties: Parties that have elected to settle their liability with EPA at this time are as follows:

3M/McGhan Medical Corporation; A&E Products Group, Inc.; Aberdeen American Petroleum Company; Advance Packaging Systems/Interamics; AGL Resources, Inc. and its subsidiaries; AHMC Healthcare, Inc.; Alhambra Unified School District; Amvac Chemical Corporation; Apache Nitrogen Products, Inc.; Applied Graphics Technologies; AVX Corporation; Bank of America, N.A., successor in interest to Security Pacific Corp—Brea Operations; Barclays American Business Credit; Bayer; Benge Trumpet Co.; BGN Fremont Square, LTD; BHP Billiton Petroleum; BMW of San Diego; Broadway So. Calif Crenshaw Shopping; Bulk Transportation; Burbank Plating Service Corporation; Burlington Engineering, Inc.; Canon, Inc.; Carmen Plaza Car Wash; Casitas Municipal Water District; CenterPoint Energy, Inc and it's wholly owned subsidiaries Primary Fuels, Inc.; Central Coast Analytical Services; Certified Freight Lines; City of Benicia; City of El Monte; City of Escondido; City of Piedmont; City of West Covina; Consolidated Container Company LP for itself and as an alleged successor in interest to Stewart/Walker Co; Consolidated Oil & Gas, Inc.; Cooper Companies, Inc.; County of Napa; County of Solano; County of Stanislaus; Creative Press; Danco Metal Surfacing; Data General Corp; Davlin Paint Co.; Daylight Transport, LLC; Deep Water Oil and Gas Corp; Dignity Health; Dole Food Company; Dura Tech Processes, Inc.; EKC Technology, Inc.; El Dorado Newspapers dba McClatchy Printing Co; ENGS Motor Truck Company; Ennis Business Forms; Excellon Automation; Farrar Grinding; Federal Envelope Company; Foster Lumber; Fujitsu; Gardena Specialized Processing; Genstar Roofing Products Company; GEO Western Drilling Fluids; Gerald V. Dicker Commercial Properties; Gooch & Housego PLC; Gorham Manufacturing Company; Granitize Products, Inc.; H Koch & Sons Div; Handy & Harman Electronic Materials Corp; Helix Water District; Henry Soss & Co; Hordis Brothers, Inc.; Hycor Biomedical, Inc.; Immunetech Pharmaceuticals, Inc.; Inamed Corporation; Industrial Process & Chemical Co., Inc.; International Paper Company; Interstate Consolidation; J B Hunt; J E Dewitt, Inc.; J.C. Penneys; John Deere Parts Depot; John L. Armitage & Co.; Kasler Continental Heller; Kester Solder; Knape & Vogt Mfg.; Knight Foundry, Inc.; Lehigh Hanson, Inc.; Levins Metal Corp; LH Research, Inc.; Lincoln Blvd. Car Wash; Liquid Air Corporation; Loma Linda Foods Co.; Ludlow Saylor n/k/a Metso Minerals Industries, Inc.; Marbro Lamp Company; McClatchy Newspaper Inc.; Mission Kleensweep Products, Inc.; Model Lands, Inc.; MWH Global; Myers Electronic Products, Inc.; National Airmotive Corporation; New Mexico Institute of Technology; New Mexico State University; Newpark Resources, Inc.; Newport Adhesive; Newport Specialty Hospital for itself and on behalf of Prospect Medical Holdings; Nike, Inc.; North American Philips; North American Van Lines; NuSil Technology, LLC; Opto Electronics; Overton Moore & Associates, Inc.; P.T.I. Technologies, Inc.; Pacific Wood Preserving Co.; PacOrd, Inc.; Palomar Systems & Machine; Paramount Machine Co.; Peen Rite, Inc.; Pell Development Company; Petoseed Company; Petrol Transport, Inc.; Petrominerals Corp.; Pfizer; Pharm-Eco Laboratories, Inc.; Pick-A-Part Auto Recycling; Pirelli Cable; Placentia-Yorba Linda Unified School District; Pomona Valley Hospital Medical Center; Providence Health & Services; Public Service Marine, Inc.; Pure Fishing, Inc.; Quality Heat Treating; R E Hazard Contracting Company; R F White Company, Inc.; R&G Sloane Maintenance; Rally Chevrolet; Ramser Development Company; Red Lions Inn; Reid Metal Finishing; Richmond Technology; Roadway Express; Rossi Enterprises; S&P Company; Santa Barbara New Press; Santa Clara University; Schurgin Development Company; Sea World; Security Pacific Bank; SESCO; Setzer Forest Products, Inc.; Sierra Pacific Power Co.; Sonoco Products Company; SPS Technologies; State of Arizona; Superior Metal Finishing, Inc.; Telic Corporation; The E.W. Scripps Company, as successor to New Chronicle; The Toro Company; Thoratec Laboratories Corporation; Time Warner, Inc. including its former subsidiaries, Warner Music Group Inc., Westland Graphics Inc., Allied Record Company & Allied Record Company.; True Value Hardware Simi Valley; TW Graphics; U S Divers (USD Corp); United Oil Company; UVP, Inc.; Ventura Townehouse; Ventura Transfer Company; Vulcan Materials Company; Weatherford BMW; Weber Nameplate; Williams Bros Market; Winonics, Inc.; Winters Industrial Cleaning; XIK, LLC a Delaware LLC, as successor by merger to Arwood Corporation; Zep, Inc.

Dated: June 17, 2016.
Enrique Manzanilla,
Director, Superfund Division, U.S. EPA Region IX.

[FR Doc. 2016-15131 Filed 6-24-16; 8:45 am]

BILLING CODE 6560-50-P